COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List products to be furnished by nonprofit agencies employing persons who are blind or have other severe disabilities, and deletes from the Procurement List products previously furnished by such agencies.

DATES: Effective Date: 3/23/2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 12/19/2008, the Committee for Purchase From People Who Are Blind or Severely Disabled published notice (73 FR 245, page 77607) of proposed additions to the Procurement List.

After consideration of the material presented to it concerning capability of qualified nonprofit agencies to provide the products and impact of the additions on the current or most recent contractors, the Committee has determined that the products listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Accordingly, the following products are added to the Procurement List:

Products

United States Army Corps of Engineers Uniforms

NSN: COE051—Windbreaker

NSN: COE050—3 Season Jacket

NSN: COE048—Mesh Base Ball Cap

NSN: COE047—Base Ball Cap

NSN: COE046—Jacket

NSN: COE045—Coveralls

NSN: COE044—Unisex Coveralls

NSN: COE043—Unisex Coveralls

NSN: COE042—Parka

NSN: COE041—Unisex Vest

NSN: COE040—Sweatshirt

NSN: COE039—Sweatshirt

NSN: COE036—Dress Belt

NSN: COE035—Black Web Belt

NSN: COE034B—Gloves

NSN: COE034A—Gloves

NSN: COE033—Jeans

NSN: COE032—Jeans

NSN: COE031—Pants

NSN: COE030—Pants

NSN: COE027—Unisex T-Shirt

NSN: COE025—Unisex Shirt

NSN: COE024—Work Shirt

NSN: COE023—Work Shirt

NSN: COE022—Work Shirt

NSN: COE021—Work Shirt

NSN: COE020—Work Shirt

NSN: COE019—Work Shirt

NSN: COE018—Cap

NSN: COE017—Belt

NSN: COE016A—Trousers

NSN: COE016B—Trousers

NSN: COE015A—Shirt

NSN: COE015B—Shirt

NSN: COE014A—Shirt

NSN: COE014B—Shirt

NSN: COE013—Skirt

NSN: COE012—Pants

NSN: COE011—Pants

NSN: COE010—Tie Tac

NSN: COE009—Tie

NSN: COE008—Tab Bow

NSN: COE007—Shirt

NSN: COE006—Shirts

NSN: COE005—Shirts

NSN: COE004—Shirts

NSN: COE003—Unisex Sweater

NSN: COE002—Blazer

NSN: COE001—Blazer

NPA: Human Technologies Corporation, Utica, NY.

Contracting Activity: Dept of the Army, XU W072 Endist Pittsburgh, PA.

Coverage: C-list for the requirements of the U.S. Army Corps of Engineers, Pittsburgh, PA.

Flags, United States Coast Guard

NSN: 8345-01-087-4593—Flag, U.S. Coast Guard

NSN: 8345-01-085-6033—Flag, U.S. Coast Guard

NSN: 8345-01-087-4592—Flag, U.S. Coast Guard

NSN: 8345-00-265-7522—Flag, U.S. Coast Guard

NSN: 8345-01-168-1145—Flag, U.S. Coast Guard

NSN: 8345-01-168-1147—Flag, U.S. Coast Guard

NSN: 8345-01-168-1144—Flag, U.S. Coast Guard

NSN: 8345-00-242-0271—Flag, U.S. Coast Guard

NSN: 8345-01-033-9300—Flag, U.S. Coast Guard

NSN: 8345-00-242-0270—Flag, U.S. Coast Guard

NSN: 8345-00-242-0269—Flag, U.S. Coast Guard

NSN: 8345-00-242-0268—Flag, U.S. Coast Guard

NSN: 8345-00-242-0267—Flag, U.S. Coast Guard

NSN: 8345-01-248-4071—Flag, U.S. Coast Guard

NSN: 8345-00-242-0266—Flag, U.S. Coast Guard

NSN: 8345-01-298-7403—Flag, U.S. Coast Guard

NSN: 8345-01-087-4597—Flag, U.S. Coast Guard

NSN: 8345-01-087-4596—Flag, U.S. Coast Guard

NSN: 8345-01-085-6034—Flag, U.S. Coast Guard

NPA: Goodwill Industries of South Florida, Inc., Miami, FL.

Contracting Activity: U.S. Coast Guard, ELC, Baltimore, MD.

Coverage: C-list for the requirements of the U.S. Coast Guard, Baltimore, MD.

Barry S. Lineback,
Director, Program Operations.

[FR Doc. E9-3640 Filed 2-19-09; 8:45 am]

BILLING CODE 6353-01-P